DEPARTMENT OF THE INTERIOR

National Park Service

Draft Site Progress Report to the World Heritage Committee for Yellowstone National Park

AGENCY: National Park Service, Interior.

ACTION: Notice of Availability of the Draft Site Progress Report to the World Heritage Committee, Yellowstone National Park.

SUMMARY: Pursuant to the Decision adopted by the 27th Session of the World Heritage Committee (Document: WHC-03/27.COM/7A.12) accepted by the United States Government, the National Park Service (NPS) announces the publication for comment of a Draft Site Progress Report to the World Heritage Committee for Yellowstone National Park, Wyoming, Idaho and Montana.

DATES: There will be a 30-day public review period for comments on this document. Comments must be received on or before January 25, 2008.

ADDRESSES: The Draft Site Report is posted on the park's Web site at: http://www.nps.gov/yell/planyourvisit/world-heritage-committee-report.htm. Copies are also available by writing to Suzanne Lewis, Superintendent, Yellowstone National Park, P.O. Box 168, Yellowstone National Park, WY 82190-0168; by telephoning 307-344-2002; by sending an e-mail message to yell_world_heritage@nps.gov; or by picking up a copy in person at the park's headquarters in Mammoth Hot Springs, Wyoming, 82190.

FOR FURTHER INFORMATION CONTACT: Suzanne Lewis, Superintendent, Yellowstone National Park, P.O. Box 168, Yellowstone National Park, WY 82190-0168, or by calling 307-344-2002.

SUPPLEMENTARY INFORMATION: The draft report summarizes the status of several issues, including mining activities, threats to bison, threats to cutthroat trout, water quality, road impacts, and visitor use impacts, which raised the concerns of the World Heritage Committee in 1995 and led to the park's inclusion the List of World Heritage in Danger that year. The World Heritage Committee removed Yellowstone National Park from the In Danger List in 2003, and at that time requested that the United States submit a report to the Committee on the status of these issues every two years.

Persons wishing to comment may do so by any one of several methods. They may mail comments to Suzanne Lewis, Superintendent, Yellowstone National Park, P.O. Box 168, Yellowstone National Park, WY 82190-0168. They also may comment via e-mail to yell_world_heritage@nps.gov (include name and return address in the e-mail message). Finally, they may hand-deliver comments to park headquarters in Mammoth Hot Springs, Wyoming 82190. Before including your address, phone number, e-mail address, or other personal identifying information in your comment, you should be aware that your entire comment—including your personal identifying information—may be made publicly available at any time. While you can ask us in your comment to withhold your personal identifying information from public review, we cannot guarantee that we will be able to do so. We will make all submissions from organizations or businesses, and from individuals identifying themselves as representatives or officials of organizations or businesses, available for public inspection in their entirety.

Todd Willens,
Deputy Assistant Secretary, Fish and Wildlife and Parks.

[FR Doc. 07-6147 Filed 12-21-07; 8:45 am]

BILLING CODE 4312-52-M